UNIFIED CARRIER REGISTRATION PLAN

Sunshine Act Meetings

TIME AND DATE: July 24, 2025, 12:00 p.m. to 3:00 p.m., Eastern time.

PLACE: This meeting will be accessible via conference call and via Zoom Meeting and Screenshare. Any interested person may call (i) 1-929-205-6099 (US Toll) or 1-669-900-6833 (US Toll), Meeting ID: 958 8253 1628, to listen and participate in this meeting. The website to participate via Zoom Meeting and Screenshare is https://kellen.zoom.us/meeting/register/bEM2zbKpSnO1J5lR4kydFQ.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Subcommittee Action

The agenda will be reviewed, and the Subcommittee will consider adoption.

Ground Rules

Subcommittee action only to be taken in designated areas on the agenda.

IV. Review and Approval of Subcommittee Minutes From the February 20, 2025, Meeting—UCR Audit Subcommittee Chair

For Discussion and Possible Subcommittee Action

Draft minutes from the February 20, 2025, Audit Subcommittee meeting will be reviewed. The Subcommittee will consider action to approve.

V. Update on the Progress of the Retreat Audit Program—The UCR Audit Subcommittee Chair, UCR Audit Subcommittee Vice Chair, DSL Transportation, and Seikosoft Representative

The UCR Audit Subcommittee Chair, UCR Audit Subcommittee Vice Chair, DSL Transportation and a Seikosoft Representative will lead a discussion on the status of the Retreat Audit Program.

VI. Discuss the Current Process for Individuals Interested in Joining the Audit Subcommittee—UCR Audit Subcommittee Chair, UCR Audit Subcommittee Vice-Chair and UCR Executive Director

The UCR Audit Subcommittee Chair, UCR Audit Subcommittee Vice Chair, and the UCR Executive Director will lead discussions on the current process of joining a Subcommittee.

VII. Update on the Newly Automated Process to Close and Credit Funds for Retreats, FARs, and Inspection Audits—The UCR Audit Subcommittee Chair, UCR Audit Subcommittee Vice Chair, DSL Transportation and Seikosoft Representative

The UCR Audit Subcommittee Chair, UCR Audit Subcommittee Vice Chair, DSL Transportation and a Seikosoft Representative will lead a discussion on the status of the newly automated process to close and credit funds for Retreats, FARs, and Inspection Audits.

VIII. Review the Current 2025, Audit Year Compliance Initiatives, Requiring States to Comply With Three of the Four Compliance Initiatives—UCR Audit Subcommittee Chair, UCR Audit Subcommittee Vice-Chair and UCR Executive Director

The UCR Audit Subcommittee Chair, UCR Audit Subcommittee Vice Chair, and the UCR Executive Director will lead a discussion on the four approved compliance initiatives.

• Unregistered Motor Carrier Audits, Tiers 4, 5, and 6, requiring 100% closure for the previous or reporting year.

• Retreat Audits, Tiers 4, 5, and 6, requiring 100% closure for the previous or reporting year.

• FARs Audits, Tiers 4, 5, and 6, requiring 100% closure for (October-June) current year.

• UCR Violation Audits, requiring 100% closure for the previous or reporting year.

* If a State does not receive a FAR Audit, Retreat Audit, or Violation Audit for a specific registration year, they're considered to have complied with the specific compliance initiative.

IX. Discuss Additional UCR Reports Available for State Auditors to Follow up on—UCR Audit Subcommittee Chair, UCR Audit Subcommittee Vice-Chair, DSL Transportation, and UCR Executive Director

The UCR Audit Subcommittee Chair, UCR Audit Subcommittee Vice Chair, DSL Transportation and the UCR Executive Director will lead a discussion on the additional unregistered UCR reports available on the National Registration System (NRS).

Concerns:

• Unaccounted revenue

• Ideas/options

Benefits:

• Potential for additional State revenue such as Intrastate Authority and Commercial Registration/IRP

Additional UCR Reports:

• Intra with Interstate trips

• Unregistered IRP Monitor

• Intra with active MC Number

• Comprehensive—Unregistered New Entrants

• Unregistered Tiers 1-3

• Unregistered KATS 2025

• Unregistered Federal Authority

• Unregistered SHB's

• Unregistered IEP's

• Unregistered with active IRP

X. Update the Subcommittee on the Recently Held and Next Monthly Question and Answer Session for State Auditors—UCR Audit Subcommittee Chair and UCR Audit Subcommittee Vice-Chair, and UCR Executive Director

The UCR Audit Subcommittee Chair, UCR Audit Subcommittee Vice Chair, and the UCR Executive Director will lead a discussion on the topics discussed during the virtual question and answer session for state auditors held on June 25, 2025, and potential topics for the next scheduled 60-minute virtual question and answer session for state auditors to be held on September 23, 2025, at 12:00 Noon ET.

XI. Other Business—UCR Audit Subcommittee Chair

The UCR Audit Subcommittee Chair will call for any other items Subcommittee members would like to discuss.

XII. Adjournment—UCR Audit Subcommittee Chair

The UCR Audit Subcommittee Chair will adjourn the meeting.

The agenda will be available no later than 5:00 p.m. Eastern time, July 16, 2025 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-13648 Filed 7-17-25; 4:15 pm]

BILLING CODE 4910-YL-P